DEPARTMENT OF HEALTH AND HUMAN SERVICES

Centers for Disease Control and Prevention

Board of Scientific Counselors, National Center for Infectious Diseases: Meeting Cancelled

In accordance with section 10(a)(2) of the Federal Advisory Committee Act (Pub. L. 92-463), the Centers for Disease Control and Prevention (CDC) announces the following committee meeting cancelled.

Name: Board of Scientific Counselors, National Center for Infectious Diseases (NCID).

Time and Date: 8:30 a.m.-3:30 p.m., December 6, 2001.

Place: CDC, Auditorium B, Building 1, Clifton Road, Atlanta, Georgia 30333.

Status: Meeting Cancelled.

Federal Register Citation of Previous Announcement: [Federal Register: November 26, 2001 (Volume 66, Number 227)] [Notices] [Page 59022-59023] [DOCID:fr26no01-52]

Contact Person for More Information: Diane S. Holley, Office of the Director, NCID, CDC, Mailstop C-19, 1600 Clifton Road, NE, Atlanta, Georgia 30333, email dsy1@cdc.gov; telephone 404/639-0078.

The Director, Management Analysis and Services office has been delegated the authority to sign Federal Register notices pertaining to announcements of meetings and other committee management activities, for both the Centers for Disease Control and Prevention and the Agency for Toxic Substances and Disease Registry.

Dated: November 28, 2001.
Joseph Salter,
Acting Director, Management Analysis and Services Office, Centers for Disease Control and Prevention.

[FR Doc. 01-29946 Filed 12-3-01; 8:45 am]

BILLING CODE 4163-18-P